DEPARTMENT OF TRANSPORTATION

Surface Transportation Board

[STB Finance Docket No. 34088]

The Columbia and Cowlitz Railway Company—Trackage Rights Exemption—The Longview Switching Company

The Longview Switching Company (LSC), has agreed to grant temporary overhead trackage rights to The Columbia and Cowlitz Railway Company (CLC) over LSC's line between Columbia Junction and Longview Junction, WA.

The parties reported that they intended to consummate the transaction on August 31, 2001. The earliest the transaction could have been consummated was September 3, 2001, the effective date of the exemption (7 days after the notice of exemption was filed).¹ The temporary trackage rights are to allow CLC to bridge its train service while CLC's main line is out of service due to structural maintenance and are scheduled to expire on March 1, 2002, pursuant to contractual terms.²

¹ Counsel for CLC was contacted by telephone and has acknowledged that the transaction could not be consummated until September 3, 2001.

² Counsel for CLC has indicated that a petition for exemption under 49 U.S.C. 10502 requesting that the Board permit the proposed temporary overhead trackage rights arrangement described in the present proceeding to expire on March 1, 2002, will be filed in the very near future.

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34088 must be filed with the Surface Transportation Board, Office of the Secretary, Case Control Unit, 1925 K Street, NW, Washington, DC 20423-0001. In addition, one copy of each pleading must be served on Stephen L. Day, Esq., Betts Patterson Mines, P.S., One Convention Place, 701 Pike Street, Suite 1400, Seattle, WA 98101.

Board decisions and notices are available on our website at www.stb.dot.gov.

Decided: September 10, 2001.
By the Board, David M. Konschnik, Director, Office of Proceedings.
Vernon A. Williams,
Secretary.

[FR Doc. 01-23240 Filed 9-17-01; 8:45 am]

BILLING CODE 4915-00-P